SMALL BUSINESS ADMINISTRATION

[Declaration of Disaster #3459]

State of Texas

Amendment #2

In accordance with notices received from the Federal Emergency Management Agency, dated November 15, 2002, the above numbered declaration is hereby amended to establish the incident period for this disaster as beginning on October 24, 2002 and continuing through November 15, 2002. This declaration is also amended to include Liberty and Montgomery Counties in the State of Texas as disaster areas due to damages caused by severe storms, tornadoes, and flooding occurring on October 24, 2002, and continuing through November 15, 2002.

In addition, applications for economic injury loans from small businesses located in Grimes, San Jacinto and Walker Counties in the State of Texas may be filed until the specified date at the previously designated location. All other counties contiguous to the above named primary counties have been previously declared.

All other information remains the same, i.e., the deadline for filing applications for physical damage is January 6, 2003, and for economic injury the deadline is August 5, 2003.

(Catalog of Federal Domestic Assistance Program Nos. 59002 and 59008).
Dated: November 19, 2002.
Herbert L. Mitchell,
Associate Administrator for Disaster Assistance.

[FR Doc. 02-29911 Filed 11-22-02; 8:45 am]

BILLING CODE 8025-01-P